DEPARTMENT OF ENERGY

Fusion Energy Sciences Advisory Committee

AGENCY: Office of Science, Department of Energy.

ACTION: Notice of renewal.

SUMMARY: Pursuant to the Federal Advisory Committee Act, the Code of Federal Regulations, and following consultation with the Committee Management Secretariat, General Services Administration, notice is hereby given that the Fusion Energy Sciences Advisory Committee (FESAC) has been renewed for a two-year period.

FOR FURTHER INFORMATION CONTACT: Samuel J. Barish at (301) 903-2917 or email: Sam.barish@science.doe.gov.

SUPPLEMENTARY INFORMATION:

The Committee will provide advice to the Director, Office of Science, Department of Energy (DOE), on long-range plans, priorities, and strategies for advancing plasma science, fusion science, and fusion technology—the knowledge base needed for an economically and environmentally attractive fusion energy source.

Additionally, the renewal of the FESAC has been determined to be essential to the conduct of the Department's business and in the public interest in connection with the performance of duties imposed upon the DOE by law. The Committee will continue to operate in accordance with the provisions of the Federal Advisory Committee Act, the Department of Energy Organization Act, the General Services Administration Final Rule on Federal Advisory Committee Management, and other directives and instruction issued in the implementation of those Acts.

Signing Authority

This document of the Department of Energy was signed on August 2, 2023, by Sarah E. Butler, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 2, 2023.
Treena V. Garrett,
Federal Register Liaison Officer, U.S. Department of Energy.

[FR Doc. 2023-16879 Filed 8-7-23; 8:45 am]

BILLING CODE 6450-01-P